SMALL BUSINESS ADMINISTRATION

[Declaration of Disaster #3412]

State of Texas; Disaster Loan Areas

Shackelford County and the contiguous counties of Callahan, Eastland, Haskell, Jones, Stephens, Taylor and Throckmorton in the State of Texas constitute a disaster area as a result of damages caused by excessive rain, flash flooding and hail that occurred on April 25, 2002. Applications for loans for physical damage may be filed until the close of business on July 8, 2002, and for economic injury until the close of business on February 10, 2003, at the address listed below or other locally announced locations:

U.S. Small Business Administration, Disaster Area 3 Office, 4400 Amon Carter Blvd., Suite 102, Ft. Worth, TX 76155.

The interest rates are:

For Physical Damage:

Homeowners with credit available elsewhere, 6.750%.

Homeowners without credit available elsewhere, 3.375%.

Businesses with credit available elsewhere, 7.000%.

Businesses and non-profit organizations without credit available elsewhere, 3.500%.

Others (including non-profit organizations) with credit available elsewhere, 6.375%.

For Economic Injury

Businesses and small agricultural cooperatives without credit available elsewhere, 3.500%.

The numbers assigned to this disaster are 341211 for physical damage and 9P5500 for economic injury.

(Catalog of Federal Domestic Assistance Program Nos. 59002 and 59008).

Dated: May 8, 2002.
Hector V. Barreto,
Administrator.

[FR Doc. 02-12129 Filed 5-14-02; 8:45 am]

BILLING CODE 8025-01-P